DEPARTMENT OF ENERGY

Federal Energy Regulatory Commission

Notice of Transfer of Licenses and Substitution of Relicense Applicant, and Soliciting Comments, Protests, and Motions To Intervene

May 4, 2001.

Take notice that the following hydroelectric application has been filed with the Commission and is available for public inspection:

a. Application Types: (1) Transfer of Licenses and (2) Request for Substitution of Applicant for New License (in Project No. 2694-002).

b. Project Nos: 2601-004, 2602-002, 2603-009, 2619-006, 2686-024, 2692-025, 2694-002, 2694-005, and 2698-025.

c. Date Filed: April 17, 2001.

d. Applicant: Duke Power, a division of Duke Energy Corporation, Nantahala Area (transferee).

e. Name and Location of Projects (all in North Carolina): The Bryson Project No. 2601 is located on the Oconaluftee River in Swain County. The Dillsboro Project No. 2602 is located on the Tuckasegee River in Jackson County. The Franklin Project No. 2603 is located on the Little Tennessee River in Macon County. The Mission Project No. 2619 is located on the Hiwassee River in Clay County. The West Fork Project No. 2686 is located on the West Fork of the Tuckasegee River in Jackson County. The Nantahala Project No. 2692 is located on the Nantahala River, Dicks Creek, and White Oak Creek in Clay and Macon Counties. The Queens Creek Project No. 2694 is located on Queens Creek in Macon County. The East Fork Project No. 2698 is located on the East Fork of the Tuckasegee River in Jackson County. These projects do not occupy federal or tribal lands.

f. Filed Pursuant to: Federal Power Act, 16 U.S.C. 791(a)-825(r).

g. Applicant Contacts: Mr. Paul Kinney, Law Department, Duke Power, P.O. Box 1244, Charlotte, NC 28201-1244, (704) 373-6609, and Mr. John A. Whittaker, IV, Winston & Strawn, 1400 L Street NW, Washington, DC 20005, (202) 371-5766.

h. FERC Contact: James Hunter, (202) 219-2839.

i. Deadline for filing comments and or motions: June 11, 2001.

All documents (original and eight copies) should be filed with: David P. Boergers, Secretary, Federal Energy Regulatory Commission, 888 First Street, NE., Washington, DC 20426. Comments, protests, and motions to intervene may be filed electronically via the internet in lieu of paper. See, 18 CFR 385.2001(a)(1)(iii) and the instructions on the Commission's web site at http://www.ferc.fed.us/efi/doorbell.htm.

Please include the noted project numbers on any comments or motions filed.

j. Description of Proposal: Nantahala Power and Light Company (Nantahala), the original licensee of these projects, has merged into Duke Energy Corporation (Duke) and no longer exists. Duke now seeks after-the-fact approval of the transfer of the licenses from Nanatahala to Duke, as well as a name change to Duke Power, a division of Duke Energy Corporation, Nantahala Area. (In response to a notice filed by Duke on May 12, 2000, the Commission inadvertently issued, on June 28, 2000, an order changing the name of the licensee to Nantahala Power and Light, a division of Duke Energy Corporation. See 91 FERC ¶ 62,235, which of course lacked the prerequisite step of Commission approval for transfer of the project licenses to Duke.)

The transfer application was filed within five years of the expiration of the licenses all of these projects. In Hydroelectric Relicensing Regulations Under the Federal Power Act (54 Fed. Reg. 23,756; FERC Stats. and Regs., Regs. Preambles 1986-1990 30,854 at p. 31,437), the Commission declined to forbid all license transfers during the last five years of an existing license, and instead indicated that it would scrutinize all such transfer requests to determine if the transfer's primary purpose was to give the transferee an advantage in relicensing (id. at p. 31438 n. 318).

The transfer application also contains a separate request for the substitution of Duke Power, a division of Duke Energy Corporation, Nantahala Area for Nantahala Power and Light, a division of Duke Energy Corporation as the applicant in the pending relicensing application, filed on September 27, 1999, in Project No. 2694-002.

k. Locations of the application: A copy of the application is available for inspection and reproduction at the Commission's Public Reference Room, located at 888 First Street, NE, Room 2A, Washington, DC 20426, or by calling (202) 208-1371. The application may be viewed on the web at www.ferc.fed.us/online/rims.htm (Call (202) 208-2222 for assistance). A copy is also available for inspection and reproduction at the addresses in item g above.

1. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other commenters filed, but only those who file a motion to intervene in accordance with the Commission's Rules may become a party to the proceeding. Any comments, protests, or motions to intervene must be received on or before the specified comment date for the particular application.

Filing and Service of Responsive Documents—Any filings must bear in all capital letters the title “COMMENTS”, “PROTEST”, “MOTION TO INTERVENE”, as applicable, and the Project Number of the particular application to which the filing refers. An additional copy must be sent to the Director, Division of Hydropower Administration and Compliance, Federal Energy Regulatory Commission, at the above-mentioned address. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 01-11777 Filed 5-9-01; 8:45 am]

BILLING CODE 6717-01-M